DEPARTMENT OF COMMERCE

International Trade Administration

China Biotech Life Sciences Trade Mission—Clarification and Amendment

AGENCY: International Trade Administration, Department of Commerce.

ACTION: Notice.

SUMMARY: The United States Department of Commerce, International Trade Administration, U.S. and Foreign Commercial Service (CS) is publishing this supplement to the Notice of the Biotech Life Science Trade Mission to China, 76 FR 17,621, Mar. 30, 2011, to clarify eligibility and amend the Notice to revise the dates and provide for selection of applicants on a rolling basis.

SUPPLEMENTARY INFORMATION:

Clarification of Eligibility of U.S. Architecture and Design Firms Specializing in This Sector

As stated under Mission Description in the March 30, 2011 Notice, this mission is intended to include representatives from a variety of U.S. biotechnology and life science firms and trade organizations. In response to various inquiries, CS is clarifying that the mission is open to applications from U.S. architecture and design firms that specialize in the design and construction of biotech and life sciences facilities including laboratories and research centers. Such firms are encouraged to apply to participate.

Amendments To Revise the Dates and Provide for Selection of Applicants on a Rolling Basis

Background: The dates are changing to coincide closely with the BioChina trade show in Shanghai. Because the mission now runs from Friday through Tuesday, a travel day has been added on Sunday since no business appointments can be made for that day. The proposed tentative time table is provided below.

In addition, recruitment for this Mission began at the end of March, and some pending applicants have indicated a need to finalize their schedules and travel arrangements. Rather than wait until after the August 15, 2011 deadline to vet all applicants and make selection decisions, CS is amending the Notice to allow for vetting and selection decisions on a rolling basis beginning July 25, 2011, until the maximum of 20 participants is selected. Although applications will be accepted through August 15th (and after that date if space remains and scheduling constraints permit), interested U.S. biotechnology and life science firms and trade organizations which have not already submitted an application are encouraged to do so as soon as possible.

Amendments

1. For the reasons stated above, the dates each place they appear in the Notice of the Biotech Life Science Trade Mission to China, 76 FR 17621, Mar. 30, 2011, are revised to read October 14-18, 2011. In addition, revise the Proposed Timetable to read: Oct. 14: Beijing, government and other meetings as appropriate; Oct. 15: Beijing, site visits to biotech industrial parks; Oct. 16: travel to Hong Kong; Oct. 17: Hong Kong, government meetings and one-on-one appointments; Oct. 18: Hong Kong, one-on-one appointments.

2. For the reasons stated above, the Timeframe for Recruitment and Applications section of the Notice of the Biotech Life Science Trade Mission to China, 76 FR 17,621, Mar. 30, 2011, is amended to read as follows:

Timeframe for Recruitment and Applications

Mission recruitment will be conducted in an open and public manner, including publication in the Federal Register, posting on the Commerce Department trade mission calendar (http://export.gov/trademissions) and other Internet Web sites, press releases to general and trade media, direct mail, notices by industry trade associations and other multiplier groups, and publicity at industry meetings, symposia, conferences, and trade shows. Recruitment for this mission will conclude no later than August 15, 2011. The U.S. Department of Commerce will review applications and make selection decisions on a rolling basis beginning July 25, 2011. We will inform all applicants of selection decisions on a rolling basis. Applications received after the August 15 deadline will be considered only if space and scheduling constraints permit.

FOR FURTHER INFORMATION CONTACT: Douglas Wallace, Commercial Officer, Phone: 415-705-1765; Fax: 415-705-2299, E-mail: douglas.wallace@trade.gov.

Elnora Moye,
U.S. Department of Commerce, Commercial Service/GTP.

[FR Doc. 2011-18138 Filed 7-18-11; 8:45 am]

BILLING CODE 3510-FP-P